DEPARTMENT OF HEALTH AND HUMAN SERVICES

National Institutes of Health

Center for Scientific Review; Amended Notice of Meeting

Notice is hereby given of a change in the meeting of the Biology of Development and Aging Integrated Review Group; Developmental Therapeutics Study Section, February 24-25, 2022, 9:30 a.m. to 7:00 p.m., which was published in the Federal Register on January 19, 2022, 87 FR 2877, FR DOC 2022-00962.

This meeting is being amended to change the Contact Person from Nicholas J. Donato to Lambratu Rahman Sesay, Ph.D., Scientific Review Officer, Center for Scientific Review, National Institutes of Health, 6701 Rockledge Drive, Room 804-H, MSC 7849, Bethesda, MD 20892, (301) 905-8294, bree.rahmansesay@nih.gov. The meeting dates, times, and meeting location remain the same. The meeting is closed to the public.

Dated: February 10, 2022.
Tyeshia M. Roberson-Curtis,
Program Analyst, Office of Federal Advisory Committee Policy.

[FR Doc. 2022-03310 Filed 2-15-22; 8:45 am]

BILLING CODE 4140-01-P